DEPARTMENT OF ENERGY

Federal Energy Regulatory Commission

Combined Notice of Filings #1

November 7, 2005.

Take notice that the Commission received the following electric rate filings.

Docket Numbers: ER01-316-018.

Applicants: ISO New England Inc.

Description: ISO New England, Inc submits its Index of Customers for the third quarter of 2005.

Filed Date: November 1, 2005.

Accession Number: 20051103-0038.

Comment Date: 5 p.m. eastern time on Tuesday, November 22, 2005.

Docket Numbers: ER04-445-013.

Applicants: California Independent System Operator Corporation.

Description: The California Independent System Operator Corp submits its long-term Standard Large Generator Interconnection Procedures etc. pursuant to FERC's June 16, 2005 Order.

Filed Date: November 1, 2005.

Accession Number: 20051103-0065.

Comment Date: 5 p.m. eastern time on Tuesday, November 22, 2005.

Docket Numbers: ER04-445-014; ER04-435-018; ER04-441-010; ER04-443-010.

Applicants: California Independent System Operator; Pacific Gas and Electric Company, San Diego Gas & Electric Company; Southern California Edison Company.

Description: California Independent System Operator Corp, Pacific Gas & Electric Co et al. submit a long-term Standard Large Generator Interconnection Agreement for approval as a pro forma agreement per FERC's July 1, 2005 Order.

Filed Date: November 1, 2005.

Accession Number: 20051103-0096.

Comment Date: 5 p.m. eastern time on Tuesday, November 22, 2005.

Docket Numbers: ER05-1326-002.

Applicants: Cornerstone Energy General Partners, LLC.

Description: CornerStone Energy General Partners, LLC submits Revised Sheet No. 2 to FERC Electric Tariff, Original Volume No. 1.

Filed Date: October 31, 2005.

Accession Number: 20051104-0300.

Comment Date: 5 p.m. eastern time on Monday, November 21, 2005.

Docket Numbers: ER05-718-004.

Applicants: California Independent System Operator.

Description: California Independent System Operator submits compliance filing to clarify CAISO's authority to settle intertie transactions.

Filed Date: November 1, 2005.

Accession Number: 20051103-0095.

Comment Date: 5 p.m. eastern time on Tuesday, November 22, 2005.

Docket Numbers: ER06-5-001.

Applicants: CBK Group, LTD.

Description: Petition of CBK Group Ltd for acceptance of amended rate schedule, waivers and blanket authority.

Filed Date: October 28, 2005.

Accession Number: 20051104-0318.

Comment Date: 5 p.m. eastern time on Friday, November 18, 2005.

Docket Numbers: ER91-569-030; EL04-123-004; EL05-105-002; ER01-666-006; ER02-862-006; ER01-1675-004; ER01-1804-005.

Applicants: Entergy Services, Inc.

Description: Entergy Services Inc on behalf of EWO Marketing LP et al. submits a compliance filing pursuant to FERC's December 17, 2004 order.

Filed Date: November 1, 2005.

Accession Number: 20051104-0299.

Comment Date: 5 p.m. eastern time on Tuesday, November 22, 2005.

Docket Numbers: ER91-569-031; EL04-123-005; EL05-105-003.

Applicants: Entergy Services, Inc.

Description: Entergy Services, Inc. on behalf of Entergy Operating Companies submits a compliance filing pursuant to FERC's 12/17/04 Order.

Filed Date: November 1, 2005.

Accession Number: 20051104-0322.

Comment Date: 5 p.m. eastern time on Tuesday, November 22, 2005.

Docket Numbers: ER99-3168-005; ER00-1463-005.

Applicants: Astoria Generating Company Acquisitions; Orion Power MidWest, LP.

Description: Astoria Generating Co, LP & Orion Power MidWest, LP submit revised tariff sheets to modify the prohibited transactions section of their tariffs to state that they will not make sales or purchases.

Filed Date: November 1, 2005.

Accession Number: 20051103-0098.

Comment Date: 5 p.m. eastern time on Tuesday, November 22, 2005.

Docket Numbers: ER99-3491-007; ER00-2184-005; ER00-2185-005; EL05-124-002.

Applicants: PP&L Montana, LLC.

Description: PPL Montana, LLC et al. submits the Delivered Price Test analyses in accordance with FERC's order issued September 1, 2005 in the triennial market-based rate update proceeding.

Filed Date: October 31, 2005.

Accession Number: 20051104-0325.

Comment Date: 5 p.m. eastern time on Monday, November 21, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E5-6270 Filed 11-14-05; 8:45 am]

BILLING CODE 6717-01-P